DEPARTMENT OF ENERGY

Federal Energy Regulatory Commission

[Docket No. OR07-1-000]

Tesoro Refining and Marketing Company, Complainants v. SFPP, L.P., Respondent; Notice of Complaint

December 4, 2006.

Take notice that on December 1, 2006, Tesoro Refining and Marketing Company (Tesoro) filed a formal complaint against SFPP, L.P. pursuant to Rule 206 of the Rules of Practice and Procedure of the Federal Energy Regulatory Commission; the Procedural Rules Applicable to Oil Pipeline Proceedings of the Interstate Commerce Act; and section 1803 of the Energy Policy Act of 1992.

Complainant alleges that SFPP's North Line rates are unjust and unreasonable. Complainant requests that the Commission determine that the rates established by SFPP for the shipment of refined petroleum products are so substantially in excess of SFPP's actual costs as to be unjust and unreasonable; prescribe new rates that are just and reasonable for the shipment of refined petroleum products on SFPP's North line; determine that SFPP overcharged Tesoro for shipments of refined petroleum products on SFPP's North line from at least December 1, 2004 to the present, and is continuing to overcharge Tesoro for such shipments; order SFPP to pay refunds, reparations and damages, plus interest to Tesoro for shipments made by Tesoro on the North Line from December 1, 2004; award Tesoro it costs and attorneys fees in prosecurting this Complaint; and grant Tesoro such other, different or additional relief as the Commission may determine to be appropriate.

Tesoro certifies that copies of the Complaint were served on the contacts for SFPP as listed on the Commission's list of Corporate Officials and on SFPPs counsel.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC. 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on January 2, 2007.

Magalie R. Salas,
Secretary.

[FR Doc. E6-21051 Filed 12-11-06; 8:45 am]

BILLING CODE 6717-01-P